DEPARTMENT OF AGRICULTURE

Forest Service

Giant Sequoia National Monument Management Plan EIS

AGENCY: USDA, Forest Service.

ACTION: Notice of intent to prepare an environmental impact statement.

SUMMARY: The Department of Agriculture, Forest Service is preparing an environmental impact statement (EIS) to establish management direction for the land and resources within the Giant Sequoia National Monument (GSNM) created by Presidential Proclamation on April 15, 2000. The agency is to develop a management plan within three years of the signing of the Proclamation. The Forest Service, as the responsible agency, proposes to amend the Sequoia National Forest Land and Resource Management Plan (FLMP) to provide for the protection of the objects of interest identified in the Proclamation.

DATES: The public is asked to submit any issues (points of concern, debate, dispute, or disagreement) regarding potential effects of the proposed action by July 24, 2001. The draft EIS is expected to be available for public comment in February 2002 and the final EIS is expected to be published in September 2002.

ADDRESSES: Send written comments to: Jim Whitfield, EIS Team Leader, USDA Forest Service, Sequoia National Forest, 900 W. Grand Avenue, Porterville, CA 93257.

FOR FURTHER INFORMATION CONTACT: Jim Whitfield, EIS Team Leader, Sequoia National Forest, at the address listed above. The phone number is (559) 784-1500. Information regarding the monument and the planning process can also be found on the Giant Sequoia National Monument website located at www.r5.fs.fed.us/giant_sequoia. Public meetings will be held during the scoping period to allow the public to gather information prior to submitting comments. Information on the times, dates, locations, and agendas for these meetings will be provided in local newspapers, on the website, and by direct mailings.

SUPPLEMENTARY INFORMATION:

Background

On April 15, 2000, a Presidential Proclamation creating the Giant Sequoia National Monument was signed. The Proclamation designated 327,769 acres within the boundary of the Sequoia National Forest as a National Monument to provide protection for a variety of objects of historic and scientific interest, including giant sequoia trees and their surrounding ecosystem. The President directed the Secretary of Agriculture to prepare a management plan within three years, and that the plan is to include a transportation plan. The plan will provide for and encourage continued public access and use consistent with the purposes of the Giant Sequoia National Monument. A range of alternatives will be analyzed, including the no-action alternative, which is the management direction provided by the current Forest Land and Resource Management Plan, as amended.

Purpose and Need for Action

The Presidential Proclamation identifies the need to take action regarding two critical problems facing giant sequoias and their ecosystems: (1) The heavy buildup of surface fuels and woody debris, leading to an increased hazard form wildfires, and (2) a lack of regeneration of young giant sequoias to ensure long-term sustainability of the species. The proclamation also clearly identifies opportunities for scientific research, interpretation, recreation, and the need for a transportation plan. We are committed to preparing a management plan that is responsive to these needs and opportunities and that provides proper care for the objects of interest as identified in the proclamation. These objects include:

1. The naturally occurring groves of giant sequoia,

2. The ecosystems within the GSNM that surround the groves and provide enriching recreational and social experiences, outstanding landscapes, and an array of rare and endemic species, such as the fisher, the great gray owl, the American marten, the northern goshawk, the peregrine falcon, the spotted owl, and the California condor,

3. The historical landscape in and around the Hume Lake Basin associated with the Euro-American use of the giant sequoia since the late 1800's, and

4. The limestone caverns and prehistoric archaeological sites that provide a paleontological record of the ecological changes that giant sequoias have undergone, as well as a prehistoric record of the relationship of the area to the native tribes.

Management Direction

Current management direction for the Sequoia National Forest and the GSNM includes the Presidential Proclamation and the Forest Land and Resource Management Plan as amended by the Sierra Nevada Forest Plan Amendment. The Sierra Nevada Forest Plan Amendment provides management direction for many important concerns such as aquatic, riparian, and meadow management; fire and fuel management; and old forest ecosystem management. It provides strategies, as well as standards and guidelines, to address the risk of catastrophic fire, although it is not focused on the objects of interest within the monument. The Sierra Nevada Forest Plan Amendment also provides some management direction to begin to address the restoration of giant sequoia ecosystems. More information on the Sierra Nevada Forest Plan Amendment is available at www.r5.fs.fed.us sncf or by calling (916) 492-7554.

Current management direction does address some key concerns raised by the public during and immediately after the establishment of the monument. New direction is not proposed for activities such as: Accessing private lands and special use facilities, issuing special use permits (permits for three organizational camps have recently been renewed), hunting and fishing, and limiting off-highway vehicle use.

Proposed Action

This plan amendment will provide new management direction for the proper care, management and enjoyment of the objects of interest in the monument, as well as highlight and emphasize the application of current direction specific to the objects of interest. The Proposed Action establishes or modifies desired conditions and management goals for key resources (giant sequoias, recreation, historic and prehistoric resources, transportation, caves, and scientific study).

To realize the desired conditions and meet management goals, new management areas and their associated management emphases are being proposed. Examples are given of potential projects to maintain or achieve the desired condition in a manner consistent with the management emphases for a given management area. An initial set of standards and guidelines applying to all management areas is also included. These are in addition to current direction and do not replace existing direction.

Management areas consist of areas within the monument with similar management emphases. Management emphasis is specific direction applicable to each management area. Standards and guidelines are the primary instructions for land managers, including required (standards) and recommended (guidelines) actions necessary for resource management activities.

Desired Condition for Giant Sequoias and the Surrounding Mixed-Conifer Ecosystems

The ecosystems that support giant sequoias will function much as they did prior to recent, but enduring human-induced environmental influences, such as fire suppression and timber harvesting. Indicators of key ecological elements will be within their historic ranges of variability when compared against an appropriate time frame. The genetic integrity of the giant sequoia population will be maintained.

The giant sequoia groves and mixed-conifer forest will be returned to an historic fire regime and fuel loading. Fire will be reintroduced to the ecosystem and fuel loads that contribute to stand-replacing fires will be reduced.

The overall stand conditions of the giant sequoia groves and their surrounding ecosystems will exhibit characteristics that are within natural ranges of variability, including, but not limited to, species composition, forest structure, and age class distribution.

Management Goals for Giant Sequoias and the Surrounding Mixed-Conifer Ecosystems

Protect giant sequoia groves and the surrounding ecosystems by ensuring that they are resilient to natural events (e.g. wildfire, epidemic outbreaks of insects and diseases) and other events that are contrary to, or disruptive of, ecological processes necessary to sustain a healthy and sustainable ecosystem. Preserve the genetic integrity of each separate giant sequoia grove. Protect the hydrologic functions and soil resources upon which the groves and surrounding ecosystems depend.

Restore groves and their surrounding ecosystems to reflect historic conditions, which includes a fire regime of frequent and generally low-intensity fires; a mosaic of different vegetative age and size classes; and a large amount of shade-intolerant species such as pines, giant sequoias, and hardwoods.

Coordinate planning and implementation of protection and restoration projects with adjoining agencies and private landowners, which include the Sequoia and Kings Canyon National Parks, Mountain Home State Forest, the Universities of California (Whitaker's Forest), and the Tule River Indian Tribe.

Desired Condition for Dispersed and Developed Recreation

Visitors to the GSNM will find a rich and varied range of recreational and social opportunities enhanced by giant sequoias and their ecosystems, historic and prehistoric artifacts, and unique geological features. The GSNM will offer a range of experiences, from primitive settings to developed settings.

To facilitate observation and interpretation of the objects of interest, landscapes will provide a high level of scenic integrity, helping visitors appreciate how healthy ecosystems function and how humans fit into them. Scenic opportunities will range from pristine landscapes to locations where management activities are apparent.

Any new recreational or administrative facilities to be constructed will emulate the character of the surroundings, remaining in context with scientific, historical, ecological, cultural, and economic values. High quality interpretive and educational facilities and services will be available to promote visitor understanding and enjoyment of the giant sequoia ecosystem and the values within the monument.

Management Goals for Developed and Dispersed Recreation

Provide visitors with a wide range of opportunities for recreation, interpretation, and education related to the objects of interest and the values of the monument.

Improve visitor facilities, information, and services to meet projected demand for recreation and visitation in cooperation with permittees; cooperators; county, state, and federal agencies; tribal governments; recreational user groups; and the business community.

Desired Condition for Historic and Prehistoric Resources

The historic and prehistoric resources of the GSNM will be protected, studied, interpreted, and managed to maintain their cultural and scientific integrity and to provide educational, cultural, and recreational opportunities to visitors.

A wide range of opportunities will allow visitors to make a personal connection with the land and to reflect on the past and its relevance to their daily lives.

The cultural and spiritual values of the monument will be protected, managed, and utilized for the benefit of local tribes, communities and visitors.

Management Goals for Historic and Prehistoric Resources

Protect historic and prehistoric values from impacts that could destroy them or accelerate their natural rate of deterioration.

Ensure that sites are interpreted for the education and enjoyment of visitors.

Local tribes will be consulted in the planning of projects in the monument. Ensure access to culturally important sites and resources for use by Native Americans.

Desired Condition for the Transportation System

The transportation system (roads and trails) within the monument will provide public access to recreation opportunities, private property, lands under special use permit, and other activities compatible with enjoying, managing and protecting the objects of interest.

Access will be adequate for management activities such as fire suppression, ecological restoration, research, fuels management, and maintenance of recreation facilities.

The transportation system will include a wide range of experiences, from primitive trails to highly developed roads. It will consist of ecologically stable roads and trails and will contribute to the proper care and management of the objects of interest.

Development, operation, maintenance, or decommissioning of roads and trails will be based on the need to provide proper care for the objects of interest, public access, or management access.

Management Goals for the Transportation System

Provide well-maintained roads and trails for public access to all national forest system lands within the monument. Coordinate transportation planning with Sequoia and Kings Canyon National Parks, and state and county agencies, to reduce traffic congestion and safety hazards, especially along major travel ways such as the General's Highway, Highway 180, and Highway 190.

Allow adequate access to private lands and facilities within the monument.

Provide a wide range of trail opportunities, including accessible trails for persons with disabilities, for hiking, horseback riding, bicycling, and cross-country skiing.

Provide a system of well-maintained roads to allow efficient and effective fire suppression, fuels treatment, restoration work, and other management use.

Repair or decommission roads that are unstable or are causing unacceptable impacts to the objects of interest.

Provide enjoyable and safe opportunities for riding off-highway vehicles, including snowmobiles, on designated roads within the monument.

Desired Condition for Caves

The natural condition of caves within the monument will be preserved, to the extent possible, to maintain natural functions and protect the unique resources that depend on cave environments for existence.

The caves will provide scientific knowledge, especially regarding the paleontological and archaeological artifacts that may shed light on thousands of years of change within the giant sequoia groves, their ecosystem, and the prehistoric people who helped shape the ecosystem.

Some caves will provide educational and recreational opportunities for visitors.

Management Goals for Caves

Protect caves and their associated resources from additional impacts that could damage or destroy them, including surface activities, activities within caves, and activities altering their sustaining groundwater conditions.

Inventory and classify caves according to their most notable values.

Provide for public use where appropriate including interpretation, education, and recreation.

Work with scientific groups, volunteer organizations, and recreational clubs to help protect, preserve, and stud caves and their associated resources.

Desired Condition for Scientific Study

Encourage scientific research in the monument that will explore a wide range of hypotheses designed to improve the care and management of the objects of interest. Cooperating partners may include Forest Service research stations, universities, and other interested scientific organizations or agencies, as well as tribes and interested members of the public.

Management Goals for Scientific Study

Guide opportunities for scientific research and study of the giant sequoia groves, the mixed conifer ecosystems that surround them, the historical landscape of the Hume Lake Basin, the limestone caverns, and prehistoric archaeological sites.

Management Areas, Emphases, Potential Projects, Standards and Guidelines

Designated Management Areas, the associated emphases for each management areas and examples of potential projects within the management areas are described below.

Management Area #1, Zones of Ecological Influence, consists the giant sequoia groves and their mixed-conifer ecosystem. These boundaries are described in the Forest Service draft report entitled “Defining Ecological Zones of Influence for Giant Sequoia Groves of the Sequoia National Forest.” The zones of influence are the areas within which management activities could both directly and indirectly affect grove ecology. Management Emphases: protect and restore the structure and functions of the giant sequoias and their associated ecosystems (both terrestrial and hydrologic); reduce fuel loads within the groves and their zones of influence and restore a more natural fire interval in the groves and surrounding areas; emphasize the recruitment, retention and long-term protection of young giant sequoia and pines; move the natural hydrologic and terrestrial functions and structure toward the desired conditions; encourage scientific research; encourage interpretation of and education about the objects of interest and provide access to and opportunities for dispersed and developed recreation. Examples of potential projects include:

1. The Converse Grove is a largely second-growth stand of mixed-conifer and giant sequoias that resulted from intensive logging prior to 1900. It is unique in its size and age classes of giant sequoias and associated mixed-conifer species. It offers a unique opportunity to study a range of protection and restoration measures, as well as interpret its logging history.

2. The Redwood Mountain Grove is a very large grove that is unique in that portions of it are management by three separate entities—the Forest Service, the National Park Service, and the University of California at Berkeley. The ecological characteristics of the grove and its multiple ownerships offer a unique opportunity for collaborative research efforts.

3. The Belknap Complex Grove provides a unique blend of known sightings of fisher, several giant sequoia groves, old forest characteristics, and urban intermix zones. This offers an outstanding opportunity to compare different management technique, such as prescribed fire and thinning, to meet the goals for the monument.

4. The Freeman Grove, the Indian Basin Grove, the Converse grove, the Bearskin Grove, and the Belknap Complex Grove, offer opportunities to develop new and existing interpretive trails.

5. The Packsaddle Grove offers the opportunity to develop an access trail signed with interpretive markers.

6. The Freeman Grove approaches the desired conditions for composition and structure. This grove presents the opportunity to use prescribed fire and/or mechanical treatments to maintain this condition and improve the grove's resiliency to disturbance.

7. The Belknap Complex Grove is within the Urban Wildland Intermix Defense or Threat Zones and is highly susceptible to fire. There are communities situated within or adjacent to this grove. Using prescribed fire and/or mechanical treatments to remove surface and ladder fuels would help prevent the loss of life and property from wildland fire, as well as maintain the grove's resiliency to disturbance.

8. Young seral stages were created in the giant sequoia groves by harvesting, fuel treatments, and planting in the 1970s and 1980s. The harvesting removed stands of white fire, incense cedar, and pines that were growing below the mature giant sequoias. Approximately 775 acres of openings were created. Conifer seedlings were planted and young sequoias reseeded naturally. These areas will be managed to meet the goals of providing young sequoia trees for long-term sustainability.

Management Area #2, the Hume Lake Historic Area, is an area of extraordinary historical and cultural value and is the general site of the old logging operations of the late 1800s. Private logging companies harvested the sequoias from the surrounding areas and established a mill site, a dam, and a small town now known as Hume Lake. This management area will also include the Millwood, Abbott Mill, and Lower Abbott Mill sites.

Management Emphases: preserve and interpret this historical landscape and its associated ecosystems; provide interpretive and educational materials emphasizing the relevance, fragility, and values of the area's heritage resources and ecology; and provide a wide range of recreational and interpretive opportunities. Examples of potential projects include:

1. Through Indian Basin, develop interpretive trails that connect to Converse Basin Grove.

2. Where the historic logging operations took place, conduct a coordinated study to complete the survey of those operations so appropriate protection measures can be applied.

Management Area #3, General Monument Lands consists of the part of the monument not included in Management Area #1, Zones of Ecological Influence, or Management Area #2, the Hume Lake Basin. It includes a wide variety of vegetative types and ecological zones. Much of it is covered with mixed conifer stands but this management area also includes low elevation chaparral and lower Westside hardwood ecosystems. Management Emphases: maintain or restore the health of the varied ecological types; move the terrestrial and hydrologic functions toward the desired condition; reduce fuel loads, especially down slope of the groves, and return to a more natural fire interval; protect the objects of interests from unacceptable resource impacts such as catastrophic fire; provide access and opportunities for recreation, interpretation, and education focused on the objects of interest, especially the mixed conifer ecosystem, limestone caverns, and prehistoric and historic sites; and encourage scientific research and management to provide proper care for the objects of interest. Examples include:

1. Along the Kings Canyon Scenic Byway Corridor into Kings Canyon National Park, continue to coordinate Forest Service and National Park Service management.

2. Along the Big Meadows Road (14S11), enhance developed and dispersed recreation facilities to provide access to interpretive and educational opportunities focused on the objects of interest.

3. Within the Kings Wild and Scenic River Corridor, encourage and enhance day use opportunities, including interpretation, education, and scenic viewing.

4. Around Speas Ridge, develop an interpretive trail that discusses the prehistoric and historic uses of the area.

5. Along the Summit National Recreation Trail, add a loop accessing additional areas.

6. The Windy Gap, Needles, and Dome Rock areas, provide additional trailhead opportunities, picnic areas, and improvements to existing recreational facilities. Within the caves and limestone caverns, encourage scientific study and protection.

Monument-Wide (All Management Areas)

Management Emphasis in this management area (see above statements for individual management areas) include:

1. Along such highways as Highway 190 and the Western Divide Highway, expand the scenic byway program to provide a range of scenic and recreational opportunities, including viewing areas for giant sequoia groves, extraordinary landscapes, wildlife, historical and heritage sites, and scientific research sites.

2. Conduct historical and archeological research that contributes to a comprehensive knowledge of historical events and sites and how best to protect them.

3. Develop interpretive opportunities at well protected historic and heritage sites.

Standards and Guidelines proposed for implementation include:

1. Evaluate land-disturbing activities in the vicinity of caves that may impact caves or their associated resources.

2. Use fuel treatments to reduce the risk of catastrophic fire to giant sequoia trees and their surrounding ecosystems.

Decisions To Be Made and Responsible Official

The decision to be made is whether to implement the proposed action, as described above or to meet the Purpose and Need for action through some other combination of management actions or to defer any action at this time.

The Responsible Official if Forest Supervisor Arthur L. Gaffrey, Sequoia National Forest, 900 West Grand Ave., Porterville, California 93257.

Coordination With Other Agencies

In preparation of the EIS, the Forest Service will consult with the Bureau of Land Management, the National Park Service, the Fish and Wildlife Service, the State Historic Preservation Office, and other federal and state agencies as appropriate, as well as Native American Tribes. Scientific guidance will also be sought from the Giant Sequoia National Monument Scientific Advisory Board, established as directed in the President's Proclamation.

Commenting

Comments received in response to this invitation to participate in public scoping or any future solicitation for public comments on a draft EIS, including names and addresses of those who comment, will be considered part of the public record and will be available for public inspection. Comments submitted anonymously will be accepted and considered. Additionally, pursuant to 7 CFR 1.27(d), any person may request the agency to withhold a submission from the public record by showing how the Freedom of Information Act (FOIA) permits such confidentiality. Persons requesting such confidentiality should be aware that under the FOIA confidentiality may be granted in only very limited circumstances, such as to protect trade secrets. The Forest Service will inform the requester of the agency's decision regarding the request for confidentiality, and where the request is denied, the agency will return the submission and notify the requester that the comments may be resubmitted with or without name and address.

The comment period on the draft EIS will be 90 days from the date of Environmental Protection Agency publishes the notice of availability in the Federal Register.

The Forest Service believes that, at this early stage, it is very important to give reviewers notice of several court rulings related to public participation in the environmental review process. First, reviewers of a draft EIS must structure their participation in the environmental review of the proposal so that it is meaningful and alerts the agency to the reviewer's position and contentions. Vermont Yankee Nuclear Power Corp. v. NRDC, 435 U.S. 519,553 (1978). Also, environmental objections that could be raised at the draft EIS stage, but that are not raised until after completion of the final EIS, may be waived or dismissed by the courts. City of Angoon v. Hodel, 803 F.2d 1016, 1022 (9th Cir. 1986) and Wisconsin Heritages, Inc. v. Harris, 490 F. Supp. 1334 (E.D. Wis. 1980). Because of these court rulings, it is very important that persons interested in this proposed action participate by the close of the 45 day comment period so that substantive comments and objections are made available to the Forest Service at a time when it can meaningfully consider them and respond to them in the final EIS.

To assist the Forest Service in identifying and considering issues and concerns on the proposed action, comments on the draft environmental impact statement should be as specific as possible. It is also helpful if comments refer to specific pages or chapters of the draft statement. Comments may also address the adequacy or the merits of the alternatives formulated and discussed in the statement. Reviewers may wish to refer to the Council on Environmental Quality Regulations for implementing the procedural provisions of the National Environmental Policy Act at 40 CFR 1503.3 in addressing these points.

Dated: May 31, 2001.
Arthur L. Gaffrey,
Forest Supervisor, Sequoia National Forest, USDA Forest Service.

[FR Doc. 01-14182 Filed 6-7-01; 8:45 am]

BILLING CODE 3410-11-M